DEPARTMENT OF HEALTH AND HUMAN SERVICES

Centers for Disease Control and Prevention

[60Day-02-79]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS D-24, Atlanta, GA 30333.

Proposed Project: Reader Evaluation of ATSDR Agency Profile and Annual Report—New—The Agency for Toxic Substances and Disease Registry (ATSDR) publishes an agency profile and annual report every fiscal year to highlight the agency's major activities and findings. The report provides a record of the agency's significant accomplishments in meeting its mandates under the Comprehensive Environmental Response, Compensation, and Liability Act (CERCLA), as amended, and other Federal statutes. The annual report gives a snapshot of the agency's activities for the fiscal year. It is distributed to our partners in state, Federal, and other agencies; to researchers; schools of public health; and other interested groups. It is also available on ATSDR's Internet website and by request.

ATSDR staff has developed a reader survey to get readers' opinions and suggestions about the agency annual report. The survey will be inserted and mailed with each annual report. An online version of the reader survey will be available on the ATSDR website. The survey will collect information on the readability and effectiveness of the report, the affiliation of the readers, and any suggestions on improving readability or content.

It is anticipated that the reader survey will provide important feedback that will enable ATSDR staff to better tailor future reports to the needs of its readers. Gathering reader feedback will ensure that appropriate information is included in the document to provide a good overview of the agency's activities. The information will be used to improve customer satisfaction related to the annual report. There will be no cost to respondents, as postage will be pre-paid.

The annual burden hours are estimated to be 41.

Respondents | Number of respondents | Number of responses/respondent | Avg. burden response (in hours) | Total burden (in hours)
Academia | 100 | 1 | 5/60 | 8
State and Local Government Staff | 100 | 1 | 5/60 | 8
General Public | 300 | 1 | 5/60 | 25
Total |  |  |  | 41

Dated: September 13, 2002.
Nancy E. Cheal,
Acting Deputy Director for Policy, Planning and Evaluation, Centers for Disease Control and Prevention.

[FR Doc. 02-23793 Filed 9-18-02; 8:45 am]

BILLING CODE 4163-18-P